DEPARTMENT OF EDUCATION

National Committee on Foreign Medical Education and Accreditation

AGENCY: Office of the Secretary, White House Liaison, National Committee on Foreign Medical Education and Accreditation (NCFMEA), Department of Education.

ACTION: Request for Nominations to Serve on the National Committee on Foreign Medical Education and Accreditation (NCFMEA).

SUMMARY: At this time, the Secretary of Education invites interested parties to submit nomination(s) for individuals to serve on the National Committee on Foreign Medical Education and Accreditation (NCFMEA).

SUPPLEMENTARY INFORMATION: The NCFMEA was established by the Secretary of Education under Section 102 of the Higher Education Act of 1965, as amended. The Committee shall consist of eleven (11) members appointed to a three year term (staggered one year, two year, or three year term, as determined by the Secretary of Education), one of whom shall be a student at the time of appointment, enrolled in an accredited medical school.

Upon request from a foreign country, the NCFMEA evaluates the standards of accreditation applied to applicant foreign medical schools in that country and determines the comparability of these standards to standards for accreditation applied to medical schools in the United States. Medical schools located in foreign countries that lack an NCFMEA finding of comparability of their accrediting standards are not eligible to have their U.S. students receive Federal student aid funds under Title IV of the HEA.

Nomination Process: Any interested person or organization may nominate one or more qualified individuals. If you would like to nominate an individual or yourself for appointment to the NCFMEA, please submit the following information to the U.S. Department of Education's White House Liaison Office.

• A cover letter addressed to the Secretary of Education as follows: Honorable Arne Duncan, Secretary of Education, U.S. Department of Education, 400 Maryland Avenue SW., Washington, DC 20202. In the letter, please state your reason(s) for nominating the individual or yourself;

• A copy of the nominee's or your current resume or curriculum vitae.

• Contact information for the nominee (name, title, business address, business phone, fax number, and business email address).

In addition, the cover letter must include a statement affirming that the nominee (if you are nominating someone other than yourself) has agreed to be nominated and is willing to serve on the Committee if selected. Nominees should be broadly knowledgeable about foreign medical education and accreditation, respected in the educational community, and representative of the relevant constituencies.

DATES: Nominations for the NCFMEA must be received no later than 12:00 noon Eastern Standard Time, Tuesday, September 2, 2014.

ADDRESSES: You may submit nominations, including attachments via email to: whitehouseliaison@ed.gov (specify in the email subject line “NCFMEA Nomination”).

For questions, please contact the U. S. Department of Education White House Liaison Office at (202) 453-5737.

Electronic Access to this Document: The official version of this document is published in the Federal Register. Free Internet access to the official version of this notice in the Federal Register and the applicable Code of Federal Regulations is available via the Federal Digital System at: www.gpo.gov/fdsys. At this site, you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Dated: April 14, 2014.
Sam Myers, Jr.,
White House Liaison, U.S. Department of Education.

[FR Doc. 2014-19633 Filed 8-18-14; 8:45 am]

BILLING CODE 4000-01-P